NATIONAL AERONAUTICS AND SPACE ADMINISTRATION

[Notice 01-045]

NASA Advisory Council (NAC), Earth Systems Science and Applications Advisory Committee; Meeting

AGENCY: National Aeronautics and Space Administration.

ACTION: Notice of meeting.

SUMMARY: In accordance with the Federal Advisory Committee Act, Pub. L. 92-463, as amended, the National Aeronautics and Space Administration announces a meeting of the NASA Advisory Council, Earth Systems Science and Applications Advisory Committee.

DATES: Tuesday, May 22, 2001, 8:30 a.m. to 5:30 p.m.; and Wednesday, May 23, 2001, 8:30 a.m. to 5:30 p.m.

ADDRESSES: NASA Headquarters, 300 E Street SW, Room MIC-5A, Washington, DC, 20546.

FOR FURTHER INFORMATION CONTACT: Dr. Robert Schiffer, Code YS, National Aeronautics and Space Administration, Washington, DC 20546, 202/358-1876.

SUPPLEMENTARY INFORMATION: The meeting will be open to the public up to the seating capacity of the room. The agenda for the meeting is as follows:

—Introduction/Comments

—State-of-the-Enterprise

—Data & Information Sub-Committee report

—Technology Sub-Committee report

—Plan for periodic Research Strategy updating

—Budget Perspectives

—Earth Science Enterprise (ESE) Budget Status

—OMB Perspective

—Update on Government Performance Requirement Act (GPRA) Performance Metrics

—NASA/NOAA Joint Center for Satellite Data Assimilation

—Summary of First Day

—Applications Strategic and Planning Update

—Overview of Commercial Science Data Purchase

—ESE Science Theme Overview: Oceans and Ice

—General Discussion/Closing Remarks and adjournment

—Committee Writing Session

It is imperative that the meeting be held on these dates to accommodate the scheduling priorities of the key participants. Visitors will be requested to sign a visitor's register.

Dated: April 12, 2001.
Beth M. McCormick,
Advisory Committee Management Officer, National Aeronautics and Space Administration.

[FR Doc. 01-9571 Filed 4-17-01; 8:45 am]

BILLING CODE 7510-01-U